DEPARTMENT OF HEALTH AND HUMAN SERVICES

Centers for Disease Control and Prevention

Advisory Committee on Breast Cancer in Young Women (ACBCYW); Cancellation of Meeting

Notice is hereby given of a change in the meeting of the Advisory Committee on Breast Cancer in Young Women (ACBCYW); August 6, 2018, 1:00 p.m. to 5:00 p.m., Eastern.

The teleconference which was published in the Federal Register on June 18, 2018, Volume 83, Number 117, pages 28231-28232.

This meeting is being canceled in its entirety.

For Further Information Contact: Temeika L. Fairley, Ph.D., Designated Federal Officer, National Center for Chronic Disease Prevention and Health Promotion, CDC, 4770 Buford Hwy. NE, Mailstop K52, Atlanta, Georgia 30341, Telephone (770) 488-4518, Fax (770) 488-4760. Email: acbcyw@cdc.gov.

The Director, Management Analysis and Services Office, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2018-18186 Filed 8-22-18; 8:45 am]

BILLING CODE 4163-18-P